DEPARTMENT OF LABOR

Employment and Training Administration

[TA-W-73,695]

Woodland Mills Corporation Mill Spring, NC; Notice of Revised Determination on Reconsideration

By application dated July 22, 2010 petitioners requested administrative reconsideration of the Department's negative determination regarding the eligibility of workers and former workers of Woodland Mills Corporation, Mill Spring, North Carolina, to apply for Trade Adjustment Assistance. On August 4, 2010, the Department issued a Notice of Affirmative Determination Regarding Application for Reconsideration. The Department's Notice was published in the Federal Register on August 13, 2010 (75 FR 49524). Workers at the subject firm are engaged in employment related to the production of cotton yarn.

The information collected during the reconsideration investigation revealed that, during the period of investigation, imports of articles directly incorporating cotton yarn produced outside the United States that are like or directly competitive with imports of articles incorporating cotton yarn produced by Woodland Mills Corporation, Mill Spring, North Carolina Woodland Mills Corporation, Mill Spring, North Carolina had increased, and the increased imports contributed importantly to worker separations and declines in sales and production at the afore-mentioned firm.

Conclusion

After careful review of the additional facts obtained during the reconsideration investigation, I determine that workers of Woodland Mills Corporation, Mill Spring, North Carolina, who are engaged in employment related to the production of cotton yarn, meet the worker group certification criteria under Section 222(a) of the Act, 19 U.S.C. 2272(a). In accordance with Section 223 of the Act, 19 U.S.C. 2273, I make the following certification:

“All workers of Woodland Mills Corporation, Mill Spring, North Carolina, who became totally or partially separated from employment on or after March 10, 2009, through two years from the date of this revised certification, and all workers in the group threatened with total or partial separation from employment on date of certification through two years from the date of certification, are eligible to apply for adjustment assistance under Chapter 2 of Title II of the Trade Act of 1974, as amended.”

Signed in Washington, DC, this 10th day of November, 2010.
Del Min Amy Chen,
Certifying Officer, Office of Trade Adjustment Assistance.

[FR Doc. 2010-29430 Filed 11-22-10; 8:45 am]

BILLING CODE 4510-FN-P